DEPARTMENT OF HOMELAND SECURITY

Transportation Security Administration

[Docket No. TSA-2001-11120]

Extension of Agency Information Collection Activity Under OMB Review: Imposition and Collection of Passenger Civil Aviation Security Service Fees

AGENCY: Transportation Security Administration, DHS.

ACTION: 30 Day Notice.

SUMMARY: The Transportation Security Administration (TSA) has forwarded the Information Collection Request (ICR), OMB control number 1652-0001, abstracted below, to the Office of Management and Budget (OMB) for review and approval of an extension of the currently approved collection under the Paperwork Reduction Act. The ICR describes the nature of the information collection and its expected burden. TSA published a Federal Register notice, with a 60-day comment period soliciting comments, of the following collection of information on July 2, 2008, 73 FR 37981. The collection involves air carriers maintaining an accounting system to account for the passenger civil aviation security service fees collected and reporting this information to TSA on a quarterly basis, as well as retaining the data used for these reports for a six-year rolling period.

DATES: Send your comments by October 6, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information Technology, TSA-11, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Imposition and Collection of Passenger Civil Aviation Security Service Fees.

Type of Request: Extension of a currently approved collection.

OMB Control Number: 1652-0001.

Form(s): N/A.

Affected Public: Air Carriers.

Abstract: To help defray aviation security costs, TSA imposed the September 11th Security Service Fee on passengers of air carriers and foreign air carriers. 49 CFR 1510. Air carriers are required to collect the fee from passengers and to submit the fee to TSA by a certain date. Airlines are further required to submit quarterly reports to TSA that provide an accounting of the fees imposed, collected, refunded to passengers, and remitted to TSA. An additional requirement for airlines with over 50,000 passengers to submit annual audits of its fee collections and remittance has been temporarily suspended, but may in the future be reinstated. This information collection request covers both the quarterly reports and the annual audits.

Number of Respondents: 196.

Estimated Annual Burden Hours: An estimated 2,884 hours annually.

Issued in Arlington, Virginia, on September 2, 2008.
Kriste Jordan,
Program Manager, Business Improvements and Communications, Office of Information Technology.

[FR Doc. E8-20649 Filed 9-4-08; 8:45 am]

BILLING CODE 9110-05-P